DEPARTMENT OF DEFENSE

Defense Acquisition Regulations System

[Docket Number DARS-2016-0040; OMB Control Number 0704-0232]

Information Collection Requirement; Defense Federal Acquisition Regulation Supplement, Contract Pricing

AGENCY: Defense Acquisition Regulations System, Department of Defense (DoD).

ACTION: Notice and request for comments regarding a proposed extension of an approved information collection requirement.

SUMMARY: DoD announces the proposed extension of a public information collection requirement and seeks public comment on the provisions thereof. The Office of Management and Budget (OMB) has approved this information collection requirement for use through March 31, 2017. DoD proposes that OMB extend its approval for an additional three years.

DATES: DoD will consider all comments received by February 28, 2017.

ADDRESSES: You may submit comments, identified by OMB Control Number 0704-0232 regarding this public burden estimate or any other aspect of this collection of information, including suggestions for reducing this burden, using any of the following methods:

○ Federal eRulemaking portal: http://www.regulations.gov. Follow the instructions for submitting comments.

○ Email: osd.dfars@mail.mil. Include OMB Control Number 0704-0232 in the subject line of the message.

○ Fax: 571-372-6094.

○ Mail: Defense Acquisition Regulations System, Attn: Mr. Tom Ruckdaschel, OUSD(AT&L)DPAP/DARS, Room 3B941, 3060 Defense Pentagon, Washington, DC 20301-3060.

Comments received generally will be posted without change to http://www.regulations.gov, including any personal information provided. To confirm receipt of your comment(s), please check www.regulations.gov approximately two to three days after submission to verify posting. Please allow 30 days for posting of comments submitted by postal mail.

FOR FURTHER INFORMATION CONTACT: Mr. Tom Ruckdaschel, telephone 571-372-6088. The information collection requirements addresses in this notice are available at http://www.acq.osd.mil/dpap/dars/dfarspgi/current/index.html Paper copies are available from Mr. Tom Ruckdaschel, OUSD (AT&L) DPAP DARS, Room 3B941, 3060 Defense Pentagon, Washington, DC 20301-3060.

SUPPLEMENTARY INFORMATION:

In compliance with Section 3506(c)(2)(A) of the Paperwork Reduction Act of 1995 (44 U.S.C. Chapter 35), DoD invites comments on: (a) whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

Title and OMB Number: Defense Federal Acquisition Regulation Supplement (DFARS) Subpart 215.4, Contract Pricing, and related clause at DFARS 252.215; OMB Control Number 0704-0232.

Needs and Uses: DoD contracting officers use this information to determine if the contractor has an adequate system for generating cost estimates, which forecasts costs based on appropriate source information available at the time, and has the ability to monitor the correction of significant deficiencies. The need for information collection decreases as contractor estimating systems improve and gain contracting officer approval.

Affected Public: Businesses or other for-profit and not-for-profit institutions.

Number of Respondents: 302.

Responses per Respondent: 1.4 (approximately).

Annual Responses: 427.

Hours per Response: 40.7 (approximately).

Estimated Hours: 17,400.

Frequency: On occasion.

Summary of Information Collection

The clause at DFARS 252.215-7002, Cost Estimating System Requirements, requires that certain large business contractors—

• Establish an acceptable cost estimating system and disclose the estimating system to the administrative contracting officer (ACO) in writing;

• Maintain the estimating system and disclose significant changes in the system to the ACO on a timely basis; and

• Respond in writing to written reports from the Government that identify deficiencies in the estimating system.

Jennifer L. Hawes,
Editor, Defense Acquisition Regulations System.

[FR Doc. 2016-31749 Filed 12-29-16; 8:45 am]

BILLING CODE 5001-06-P